ENVIRONMENTAL PROTECTION AGENCY

[ER-FRL-9003-6]

Environmental Impacts Statements; Notice of Availability

Responsible Agency: Office of Federal Activities, General Information (202) 564-7146 or http://www.epa.gov/compliance/nepa/.

Weekly receipt of Environmental Impact Statements filed 06/11/2012 through 06/15/2012 pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120192, Final EIS, NMFS, USFWS, CA, Authorization for Incidental Take and Implementation of Fruit Growers Supply Multispecies Habitat Conservation Plan, Siskiyou County, CA, Review Period Ends: 07/23/2012, Contact: Lisa Roberts, 707-825-5178 NMFS, Yreka Office 530-842-5763 ext. 109 USFWS. The National Marine Fisheries Service and U.S. Fish and Wildlife Service are joint lead agencies for the this project.

EIS No. 20120193, Draft EIS, NPS, AK, Brooks River Visitor Access, To Improve Visitor Access and Relocate the Barge Landing Site, Brook River Area of Katmai National Park Reserve, AK, Comment Period Ends: 08/20/2012, Contact: Glen Yankus 907-644-3535.

EIS No. 20120194, Final EIS, NOAA, AS, Fagatele Bay National Marine Sanctuary Management Plan, Implementation, Tutuila Island, American Samoa, Review Period Ends: 07/23/2012, Contact: Gene Brighouse 684-633-5155 ext. 264.

EIS No. 20120195, Draft EIS, NPS, FL, Fort Matanzas National Monument General Management Plan, Implementation, St. John's County, FL, Comment Period Ends: 08/20/2012, Contact: David Libman 404-507-5701.

EIS No. 20120196, Draft EIS, NPS, OH, Cuyahoga Valley National Park Comprehensive Trail Management Plan, Cuyahoga and Summit Counties, OH, Comment Period Ends: 08/06/2012, Contact: Stan Austin 330-657-2752.

Amended Notices

EIS No. 20120182, Final EIS, BLM, NM, Alamogordo Regional Water Supply Project, Construction and Operation Groundwater Wells and Conveyance System, Right-of-Way Application, Otero County, NM, Review Period Ends: 07/16/2012, Contact: Douglas Haywood 575-525-4498 Revision to FR Notice Published 06/15/2012; Correction to Contact Phone Number 575-525-4498.

EIS No. 20120187, Final EIS, USFS, CA, Pettijohn Late-Successional Reserve Habitat Improvement and Fuels Reduction Project, Trinity River Management Unit of the Shasta-Trinity National Forest and Trinity Unit of the Shasta-Trinity National Recreation Area, Trinity County, CA, Review Period Ends: 07/16/2012, Contact: Keli McElroy 530-226-2354. Revision to FR Notice Published 06/15/2012; Review Period Ends: 07/16/2012; for information on U.S. Forest Service's objection process related to this project, please visit http://a123.g.akamai.net/7/123/11558/abc123/forestservic.download.akamai.com/11558/www/nepa/21305_FSPLT2_127307.pdf.

Dated: June 19, 2012.
Cliff Rader,
Director, NEPA Compliance Division, Office of Federal Activities.

[FR Doc. 2012-15345 Filed 6-21-12; 8:45 am]

BILLING CODE 6560-50-P